DEPARTMENT OF AGRICULTURE

Foreign Agricultural Service

Trade Adjustment Assistance for Farmers

AGENCY: Foreign Agricultural Service, USDA.

ACTION: Notice.

The Administrator, Foreign Agricultural Service (FAS), today terminated the certification of petitions for trade adjustment assistance (TAA) that was filed by shrimp producers in Alabama, Arizona, Georgia, North Carolina, South Carolina, and Texas. Shrimp producers in these states are no longer eligible for TAA benefits in fiscal year 2006.

SUPPLEMENTARY INFORMATION: Upon investigation, the Administrator determined that U.S. imports of shrimp fell by 7.9 million pounds between 2003 and 2004, a decline of 0.9 percent. Therefore, imports were no longer a contributing factor for program eligibility. An increase in imports is required for re-certifying a petition for TAA.

FOR FURTHER INFORMATION, CONTACT: Jean-Louis Pajot, Coordinator, Trade Adjustment Assistance for Farmers, FAS, USDA, (202) 720-2916, e-mail: trade.adjustment@fas.usda.gov.

Dated: October 20, 2005.
W. Kirk Miller,
Administrator, Foreign Agricultural Service.

[FR Doc. 05-22228 Filed 11-7-05; 8:45 am]

BILLING CODE 3410-10-P